FEDERAL COMMUNICATIONS COMMISSION

[Report No. 2493]

Petitions for Reconsideration Clarification of Action in Rulemaking Proceeding

July 2, 2001.

Petitions for Reconsideration Clarification have been filed in the Commission's rulemaking proceeding listed in this Public Notice and published pursuant to 47 CFR 1.429(e). The full text of these documents are available for viewing and copying in Room CY-A257, 445 12th Street, SW., Washington, DC or may be purchased from the Commission's copy contractor, ITS, Inc. (202) 857-3800. Oppositions to these petitions must be filed by July 26, 2001. See § 1.4(b)(1) of the Commission's rules (47 CFR 1.4(b)(1)). Replies to an opposition must be filed within 10 days after the time for filing oppositions has expired.

Subject: In the Matter of 2000 Biennial Regulatory Review—Review of Policies and Rules Concerning Unauthorized Changes of Consumers Long Distance Carriers (CC Docket No. 00-257).

Policies and Rules Concerning Unauthorized Changes of Consumers Long Distance Carriers (CC Docket No. 94-129).

Number of Petitions Filed: 4.

Federal Communications Commission.
Magalie Roman Salas,
Secretary.

[FR Doc. 01-17256 Filed 7-10-01; 8:45 am]

BILLING CODE 6712-01-M